DEPARTMENT OF ENERGY

Federal Energy Regulatory Commission

[Project No. 2816-030]

Vermont Electric Generation & Transmission Cooperative, Inc., North Hartland, LLC; Notice Rejecting Request for Rehearing

August 13, 2004.

1. On June 22, 2004, the Director, Division of Hydropower Administration and Compliance, Office of Energy Projects, issued an order which granted an extension of time to North Hartland, LLC (North Hartland) to submit copies of the instruments of conveyance as required by the order approving transfer of the North Hartland Project No. 2816 to North Hartland. On July 15, 2004, the Vermont Department of Public Service (Vermont DPS) filed a request for rehearing of that order.

2. Pursuant to section 313(a) of the Federal Power Act, 16 U.S.C. 825l(a), a request for rehearing may be filed only by a party to the proceeding. In order for Vermont DPS to be a party to the proceeding, it must have filed a motion to intervene pursuant to Rule 214 of the Rules of Practice and Procedure, 18 CFR 385.214.¹ Vermont DPS has not filed a motion to intervene in this proceeding (the request for extension of time to file conveyance instruments). Since Vermont DPS is not a party to this proceeding, its request for rehearing is rejected.

¹ See Pacific Gas and Electric Company, 40 FERC ¶ 61,035 (1987).

3. Vermont DPS' rehearing request would have been rejected in any event. With regard to post-licensing proceedings, the Commission entertains motions to intervene only where the filing entails a material change in the plan of development or in the terms of the license; would adversely affect the rights of property holders in a manner not contemplated by the license; or involves an appeal by an agency or entity specifically given a consultation role.² The timing of a compliance filing is an administrative matter between the licensee and the Commission, and does not alter the substantive obligations of the licensee.³ It therefore does not give rise to an opportunity for intervention and rehearing.

² Kings River Conservation District, 36 FERC ¶ 61,365 (1986).

³ City of Tacoma, Washington, 89 FERC ¶ 61,058 (1999). The only exception would be if the license articles specifically state that Vermont DPS must be consulted on extensions of deadlines set forth in the articles. Id. At 61,194 n. 9. Such is not the case here.

4. This notice constitutes final agency action. Request for rehearing by the Commission of this rejection notice must be filed within 30 days of the date of issuance of this notice, pursuant to 18 CFR 385.713.

Magalie R. Salas,
Secretary.

[FR Doc. E4-1878 Filed 8-19-04; 8:45 am]

BILLING CODE 6717-01-P